DEPARTMENT OF TRANSPORTATION

Office of the Secretary

14 CFR Part 399

[Docket No. DOT-OST-2022-0109]

RIN 2105-AF10

Enhancing Transparency of Airline Ancillary Service Fees

AGENCY: Office of the Secretary (OST), Department of Transportation (DOT or the Department).

ACTION: Extension of comment period.

SUMMARY: The U.S. Department of Transportation (Department or DOT) is extending through January 23, 2023, the period for interested persons to submit comments to its proposed rule on Enhancing Transparency of Airline Ancillary Service Fees.

DATES: Comments should be filed by January 23, 2023. Late-filed comments will be considered to the extent practicable. Petitions for a hearing pursuant to 14 CFR 399.75(b)(1) must also be filed by January 23, 2023.

ADDRESSES: You may file comments identified by the docket number DOT-OST-2022-0109 by any of the following methods:

• Federal eRulemaking Portal: go to https://www.regulations.gov and follow the online instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, Washington, DC, between 9 a.m. and 5 p.m. ET, Monday through Friday, except Federal holidays. Commenters using this method of delivery should contact Docket Services at 202-366-9826 or 202-366-9317 before delivery to ensure staff is available to receive the delivery.

• Fax: (202) 493-2251.

Instructions: You must include the agency name and docket number DOT-OST-2022-0109 or the Regulatory Identification Number (RIN 2105-AF10) for the rulemaking at the beginning of your comment. All comments received will be posted without change to https://www.regulations.gov, including any personal information provided.

Privacy Act: Anyone is able to search the electronic form of all comments received in any of our dockets by the name of the individual submitting the comment (or signing the comment, if submitted on behalf of an association, business, labor union, etc.). For information on DOT's compliance with the Privacy Act, please visit https://www.transportation.gov/privacy.

Docket: For access to the docket to read background documents and comments received, go to https://www.regulations.gov or to the street address listed above. Follow the online instructions for accessing the docket.

FOR FURTHER INFORMATION CONTACT: Ryan Patanaphan or Blane Workie, Office of Aviation Consumer Protection, U.S. Department of Transportation, 1200 New Jersey Ave. SE, Washington, DC 20590, 202-366-9342 (phone), ryan.patanaphan@dot.gov or blane.workie@dot.gov (email).

SUPPLEMENTARY INFORMATION: On September 26, 2022, the Department of Transportation (Department) publicly announced and posted to its website a notice of proposed rulemaking (NPRM) that proposed several disclosure requirements to enhance the transparency of ancillary service fees that consumers pay for when they purchase airline tickets. (See 87 FR 63718; October 20, 2022). In the NPRM, the Department proposed to require U.S. air carriers, foreign air carriers, and ticket agents to clearly disclose passenger-specific or itinerary-specific baggage fees, change fees, and cancellation fees to consumers whenever fare and schedule information is provided to consumers for flights to, within, and from the United States. The Department also proposed requiring similar disclosures for fees for a child 13 or under to be seated adjacent to an accompanying adult, as well as the transactability of such seating fees. The proposed rule would require carriers to provide useable, current, and accurate information regarding fees to ticket agents that sell or display the carrier's fare and schedule information. The NPRM provided for a comment period of 60 days after publication of the NPRM in the Federal Register, i.e., December 19, 2022.

Since the publication of the NPRM, several commenters have requested that the Department extend the comment period given the complexity of the proposals. Airlines for America (A4A) and International Air Transportation Association (IATA) filed a joint request for the Department to extend the comment period by 60 days given the expansive scope and complexity of the NPRM. The Travel Technology Association, the American Society of Travel Advisors, and Global Business Travel Association also filed a joint request asking for a 60-day extension primarily because of the complexity of the issues and noted that developing fully responsive comments that the Department will find most useful will take more time. The National Air Carrier Association and Sabre Corporation also separately requested an additional 60 days. Further, on December 8, 2022, during a public meeting of the Aviation Consumer Protection Advisory Committee (ACPAC) to discuss this rulemaking, the consumer representative of the ACPAC stated that he does not oppose the requests for an extension. A4A and IATA have also asked for clarification on various issues in the NPRM. The Department's responses to the questions raised by airlines will be posted in the rulemaking docket at https://www.regulations.gov, docket DOT-OST-2022-0109.

The Department has reviewed the requests for extension of the comment period and has determined to extend the comment period for the proposed rule from December 19, 2022, to January 23, 2023. The Department believes that granting a 35-day extension of the original comment period is sufficient to allow stakeholders to conduct a thorough and careful consideration of all potential impacts, including the Department's responses to the airlines' clarification requests, and prepare comments.

Signed in Washington, DC, on or about this 13th day of December 2022, under authority delegated at 49 U.S.C. 1.27(n).
John E. Putnam,
General Counsel.

[FR Doc. 2022-27416 Filed 12-19-22; 8:45 am]

BILLING CODE 4910-9X-P